DEPARTMENT OF DEFENSE

Department of the Navy

Notice of Partially Closed Meeting of the Naval Research Advisory Committee

AGENCY: Department of the Navy, DoD.

ACTION: Notice.

SUMMARY: The Naval Research Advisory Committee (NRAC) will meet to discuss information classified at the SECRET level from government organizations and proprietary information from commercial organizations. With the exception of two unclassified sessions on December 12, 2007 from 2 p.m. to 3 p.m. and from 3 p.m. to 4 p.m., all other sessions on December 11, 2007 and December 12, 2007 will include discussions involving proprietary information regarding technology applications and systems under development in the private sector between competing companies and/or information classified at the SECRET level that is devoted to intelligence briefings; emerging threats posed by potential adversaries; the exploitation of physical vulnerabilities; the tactical applications of known and emerging technologies; an assessment of the emerging concepts in such areas as: Training, S&T funding allocation, technology monitoring, progress assessments, and probable time frames for transformation and implementation; the challenges raised with the utilization and fielding of various technology applications; and a security briefing that will discuss security policies and procedures, and counterintelligence information classified at the SECRET level.

DATES: The Winter Meetings will be held on Tuesday, December 11, 2007 and Wednesday, December 12, 2007. The open sessions of the meeting will be held on Wednesday, December 12, 2007, from 2 p.m. to 3 p.m. and from 3 p.m. to 4 p.m. The closed sessions will be held all day on Tuesday, December 11, 2007, and on Wednesday, December 12, 2007, from 8 a.m. to 2 p.m. and 4 p.m. to 4:15 p.m.

ADDRESSES: The meeting will be held at the Headquarters, Office of Naval Research, 875 North Randolph Street, Arlington, VA 22203-1995.

FOR FURTHER INFORMATION CONTACT: Mr. William H. Ellis, Jr., Program Director, Naval Research Advisory Committee, 875 North Randolph Street, Arlington, VA 22203-1995; telephone: 703-696-5775.

SUPPLEMENTARY INFORMATION: This notice is provided in accordance with the provisions of the Federal Advisory Committee Act (5 U.S.C. App. 2). All sessions of the meeting will be devoted to executive sessions that will include discussions and technical examination of information related to the application of research and development to current and projected Navy and Marine Corps issues. Classified briefings from the Assistant Secretary of the Navy (Research, Development and Acquisition) and high level Navy and Marine Corps officers are scheduled to provide candid assessments of threats, countermeasures and current and projected issues. These briefings and discussions will contain proprietary information and classified information that is specifically authorized under criteria established by Executive Order to be kept Secret in the interest of national defense and is in fact properly classified pursuant to such Executive Order. The proprietary, classified and non-classified matters to be discussed are so inextricably intertwined as to preclude opening these sessions of the meeting. In accordance with 5 U.S.C. App. 2, section 10(d), the Secretary of the Navy has determined in writing that the public interest requires that these sessions of the meetings be closed to the public because they will be concerned with matters listed in 5 U.S.C. 552b(c)(1) and (4).

Dated: November 8, 2007.
T.M. Cruz,
Lieutenant, Judge Advocate Generals Corps, U.S. Navy, Federal Register Liaison Officer.

[FR Doc. E7-22200 Filed 11-13-07; 8:45 am]

BILLING CODE 3810-FF-P